DEPARTMENT OF COMMERCE

International Trade Administration

[C-570-938]

Citric Acid and Certain Citrate Salts From the People's Republic of China: Partial Rescission of Countervailing Duty Administrative Review

AGENCY: Import Administration, International Trade Administration, Department of Commerce.

DATES: Effective Date: August 11, 2011.

FOR FURTHER INFORMATION CONTACT: Matthew Jordan or Sergio Balbontin at (202) 482-1540 or (202) 482-6478; AD/CVD Operations, Office 1, Import Administration, International Trade Administration, U.S. Department of Commerce, 14th Street and Constitution Avenue, NW., Washington, DC 20230.

Background

On May 2, 2011, the Department of Commerce (“the Department”) published a notice announcing the opportunity to request an administrative review of the countervailing duty order on citric acid and certain citrate salts (“citric acid”) from the People's Republic of China (“PRC”). See Antidumping or Countervailing Duty Order, Finding, or Suspended Investigation; Opportunity To Request Administrative Review, 76 FR 24460 (May 2, 2011). On May 31, 2011, Huangshi Xinghua Biochemical Co., Ltd. (“Xinghua”), a producer and exporter of citric acid, timely requested that the Department conduct an administrative review of the countervailing duty order on citric acid, covering merchandise exported by Xinghua during the period of January 1, 2010, through December 31, 2010. In accordance with 19 CFR 351.221(c)(1)(i), the Department published a notice initiating this administrative review with regard to Xinghua. See Initiation of Antidumping and Countervailing Duty Administrative Reviews and Request for Revocation in Part, 76 FR 37781 (June 28, 2011).

Rescission of Review

Pursuant to 19 CFR 351.213(d)(l), the Secretary will rescind an administrative review, in whole or in part, if the party that requested a review withdraws the request within 90 days of the date of publication of the notice of initiation of the requested review. On July 27, 2011, Xinghua withdrew its request for review of itself within the 90-day period. Therefore, in response to Xinghua's timely withdrawal request, and as no other party requested a review of Xinghua, the Department is rescinding this administrative review with respect to Xinghua.

Assessment

The Department will instruct U.S. Customs and Border Protection (“CBP”) to assess countervailing duties on all appropriate entries. For Xinghua, the countervailing duties shall be assessed at rates equal to the cash deposit of estimated countervailing duties required at the time of entry, or withdrawal from warehouse, for consumption, in accordance with 19 CFR 351.212(c)(1)(i). The Department intends to issue appropriate assessment instructions to CBP 15 days after the date of publication of this notice of rescission of administrative review with respect to Xinghua.

Notification Regarding Administrative Protective Order

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

This notice of rescission is issued and published in accordance with sections 751(a)(l) and 777(i)(l) of the Tariff Act of 1930, as amended, and 19 CFR 351.213(d)(4).

Dated: August 4, 2011.
Christian Marsh,
Deputy Assistant Secretary for Antidumping and Countervailing Duty Operations.

[FR Doc. 2011-20427 Filed 8-10-11; 8:45 am]

BILLING CODE 3510-DS-P